FEDERAL COMMUNICATIONS COMMISSION

[CC Docket No. 96-45; DA 02-602]

Petition To Redefine the Service Area of Century Tel of the Southwest, Inc. in the State of New Mexico

AGENCY: Federal Communications Commission.

ACTION: Notice; solicitation of comments.

SUMMARY: In this document, the Common Carrier Bureau sought comment on Smith Bagley's petition requesting the Commission's consent to the New Mexico Public Regulation Commission's proposed “service area” definition for areas served by the Century Tel of the Southwest, Inc. (Century Tel) within New Mexico.

DATES: Comments are due on or before April 4, 2002. Reply comments are due on or before April 15, 2002.

ADDRESSES: See Supplementary Information section for where and how to file comments.

FOR FURTHER INFORMATION CONTACT: Richard D. Smith (202) 418-7400, TTY: (202) 418-0484.

SUPPLEMENTARY INFORMATION: On March 1, 2002, Smith Bagley filed with the Commission a petition, pursuant to section 54.207 of the Commission's rules, requesting the Commission's consent to the New Mexico Public Regulation Commission's (New Mexico Commission) proposed “service area” definition for areas served by Century Tel of the Southwest, Inc. (Century Tel) within New Mexico. The New Mexico Commission proposes to define Smith Bagley's service area as an area different from the study area of Century Tel for the purpose of determining federal universal service obligations and support mechanisms. Specifically, the New Mexico Commission proposes to modify Smith Bagley's service area to include the Zuni, Ramah, and Fence Lake wire centers and Smith Bagley's existing service contour within the Pine Hill, Vanderwagn, Gallup, and Grants wire centers. The New Mexico Commission recommended that Century Tel's noncontiguous Pecos exchange be delineated as its own service area and that the exchanges served by Smith Bagley be grouped together as a second separate service area.

If the Commission does not act on the petition within 90 days of the release of this Public Notice, the definition proposed by the New Mexico Commission will be deemed approved by the Commission and shall take effect in accordance with state procedures.

The Petition: On February 19, 2002, the New Mexico Commission issued an order designating Smith Bagley as an eligible telecommunications carrier (ETC), under section 214(e) of the Communications Act of 1934, as amended (the Act), to receive federal universal service support for service provided in areas of New Mexico. In so doing, the New Mexico Commission concluded that it was in the public interest to designate Smith Bagley as an ETC in the study area of Century Tel, a rural telephone company.

The New Mexico Commission conditioned Smith Bagley's ETC designation upon confirmation of its proposed service area designation by this Commission. In compliance with the request of the New Mexico Commission, Smith Bagley has filed a petition with the Commission seeking approval of the proposed modified service area definition.

Commission Rules: For areas served by a rural telephone company, section 214(e)(5) provides that the company's service area will be its study area “unless and until the Commission and the States, after taking into account the recommendations of a Federal-State Joint Board instituted under section 410(c), establish a different definition of service area for such company.” Section 54.207 of the Commission's rules and the Universal Service Order, 62 FR 32962, June 17, 1997, set forth the procedures for consideration of petitions seeking to designate service areas for rural telephone companies that are different from such companies' study areas.

Section 54.207(c)(3) of the Commission's rules provides that the Commission may initiate a proceeding to consider a petition to redefine the service area of a rural telephone company within ninety days of the release date of a Public Notice. If the Commission initiates a proceeding to consider the petition, the proposed definition shall not take effect until both the state commission and the Commission agree upon the definition of a rural service area, in accordance with section 214(e)(5). If the Commission does not act on the petition within 90 days of the release date of the Public Notice, the definition proposed by the state commission will be deemed approved by the Commission and shall take effect in accordance with state procedures. Under § 54.207(e) of the Commission's rules, the Commission delegates its authority under § 54.207(c) to the Chief of the Common Carrier Bureau.

An original and four copies of all comments must be filed with William F. Caton, Acting Secretary, Office of the Secretary, Federal Communications Commission, 445 12th Street, SW., TW-B204, Washington DC 20554. In addition, four copies of each comment must be delivered to Sheryl Todd, Common Carrier Bureau, 445 12th Street, SW., Room 5-A520, Washington, DC 20554, and one copy to Qualex International, Portals II, 445 12th Street, SW., Room CY-B402, Washington DC, 20554. In accordance with the Commission's earlier Public Notice announcing that hand-delivered or messenger-delivered filings are no longer accepted at the Commission's headquarters, hand-delivered or messenger-delivered filings must be delivered to 236 Massachusetts Avenue, NE, Suite 110, Washington, DC 20002. The filing hours at this location will be 8:00 a.m. to 7:00 p.m. All hand deliveries must be held together with rubber bands or fasteners. Any envelopes must be disposed of before entering the building.

Other messenger-delivered documents, including documents sent by overnight mail (other than United States Postal Service (USPS) Express Mail and Priority Mail), must be addressed to 9300 East Hampton Drive, Capitol Heights, MD 20743. This location will be open 8:00 a.m. to 5:30 p.m. The USPS first-class mail, Express Mail, and Priority Mail should continue to be addressed to the Commission's headquarters at 445 12th Street, SW, Washington, DC 20554. The USPS mail addressed to the Commission's headquarters actually goes to our Capitol Heights facility for screening prior to delivery at the Commission.

If you are sending this type of document or using this delivery method— | It should be addressed for delivery to—
Hand-delivered or messenger-delivered paper filings for the Commission’s Secretary | 236 Massachusetts Avenue, NE, Suite 110, Washington, DC 20002 (8 a.m. to 7 p.m.).
Other messenger-delivered documents, including documents sent by overnight mail (other than United States Postal Service Express Mail and Priority Mail) | 9300 East Hampton Drive, Capitol Heights, MD 20743 (8 a.m. to 5:30 p.m.).
United States Postal Service first-class mail, Express Mail, and Priority Mail | 445 12th Street, SW., Washington, DC 20554.

In addition to filing paper comments, parties are encouraged also to file comments electronically using the Commission's Electronic Comment Filing System (ECFS). See Electronic Filing of Document in Rulemaking Proceedings, 63 FR 24121, May 1, 1998. Comments filed through the ECFS can be sent as an electronic file via the Internet to http://www.fcc.gov/e.-file/ecfs.html. Generally, only one copy of an electronic submission must be filed. In completing the transmittal screen, commenters should include their full name, postal mailing address, and the applicable docket or rulemaking number. Parties may also submit an electronic comment by the Internet e-mail. To receive instructions, send an email to ecfs@fcc.gov and include the following words in the body of the message, “get form <your e-mail address>.” A sample form and directions will be sent in reply.

Pursuant to § 1.1206 of the Commission's rules, 47 CFR. 1.1206, this proceeding will be conducted as a permit-but-disclose proceeding in which ex parte communications are permitted subject to disclosure.

Federal Communications Commission.
Anita Cheng,
Assistant Chief, Accounting Policy Division.

[FR Doc. 02-6773 Filed 3-20-02; 8:45 am]

BILLING CODE 6712-01-P